DEPARTMENT OF DEFENSE

Office of the Secretary

[Docket ID DoD-2013-OS-0040]

Privacy Act of 1974; System of Records

AGENCY: Defense Logistics Agency, DoD.

ACTION: Notice to delete two Systems of Records.

SUMMARY: The Defense Logistics Agency is deleting two systems of records notices in its existing inventory of record systems subject to the Privacy Act of 1974 (5 U.S.C. 552a), as amended.

DATES: This proposed action will be effective on April 5, 2013 unless comments are received which result in a contrary determination. Comments will be accepted on or before April 4, 2013.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA FOIA/Privacy Act Office, Headquarters, Defense Logistics Agency, ATTN: DGA, 8725 John J. Kingman Road, Suite 1644, Fort Belvoir, VA 22060-6221, or by phone at (703) 767-5045.

SUPPLEMENTARY INFORMATION: The Defense Logistics Agency system of records notice subject to the Privacy Act of 1974 (5 U.S.C. 552a), as amended, have been published in the Federal Register and are available from the address in FOR FURTHER INFORMATION CONTACT. The proposed deletions are not within the purview of subsection (r) of the Privacy Act of 1974 (5 U.S.C. 552a), as amended, which requires the submission of a new or altered system report.

Dated: February 28, 2013.
Aaron Siegel,
Alternate OSD Federal Register Liaison Officer, Department of Defense.

Deletions:

S600.20

System name:

DLA Fire and Emergency Services Program Records (May 7, 2010; 75 FR 25213)

S600.30

System name:

Safety, Health, Injury, and Accident Records (February 5, 2010; 75 FR 5997)

Reason:

DLA is currently using and receiving support from the Department of the Navy “Enterprise Safety Applications Management System (ESAMS).” Records are now covered under the Privacy Act system of records for ESAMS, identified as NM05100-5, entitled “Enterprise Safety Applications Management System (ESAMS)” last published in the Federal Register on March 25, 2011, at 76 FR 16739. Therefore, these notices can be deleted.

[FR Doc. 2013-05054 Filed 3-4-13; 8:45 am]

BILLING CODE 5001-06-P